DEPARTMENT OF ENERGY

Federal Energy Regulatory Commission

Combined Notice of Filings

Take notice that the Commission has received the following Natural Gas Pipeline Rate and Refund Report filings:

Filings Instituting Proceedings

Docket Number: PR16-26-001.

Applicants: Enable Oklahoma Intrastate Transmission, LLC.

Description: Tariff filing per 284.123(b), (e), (g): EOIT Revised Petition for Rate Approval to be effective 4/1/2016; Filing Type: 1270.

Filed Date: 4/7/2016.

Accession Number: 201604075238.

Comments Due: 5 p.m. ET 4/28/16.

284.123(g) Protests Due: 5 p.m. ET 4/28/16.

Docket Number: PR16-45-000.

Applicants: Black Hills Energy Arkansas, Inc.

Description: Tariff filing per 284.123(e) + (g): Revised Statement of Operating Conditions to be effective 4/14/2016; Filing Type: 1280.

Filed Date: 4/13/2016.

Accession Number: 201604135170.

Comments Due: 5 p.m. ET 5/4/16.

284.123(g) Protests Due: 5 p.m. ET 6/13/16.

Docket Number: PR16-46-000.

Applicants: Public Service Company of Colorado.

Description: Tariff filing per 284.123(b)(1), (g): Re-baseline to be effective 4/16/2016; Filing Type: 1330.

Filed Date: 4/15/2016.

Accession Number: 201604155141.

Comments Due: 5 p.m. ET 5/6/16.

284.123(g) Protests Due: 5 p.m. ET 6/14/16.

Docket Numbers: RP16-841-000.

Applicants: Transcontinental Gas Pipe Line Company.

Description: § 4(d) Rate Filing: DPEs—PSEG, UGI, and Clean-Up to be effective 5/15/2016.

Filed Date: 4/14/16.

Accession Number: 20160414-5062.

Comments Due: 5 p.m. ET 4/26/16.

Docket Numbers: RP16-842-000.

Applicants: Discovery Gas Transmission LLC.

Description: Imbalance Cash-out Report for 2015 Activity for Discovery Gas Transmission LLC.

Filed Date: 4/14/16.

Accession Number: 20160414-5067.

Comments Due: 5 p.m. ET 4/26/16.

Docket Numbers: RP16-843-000.

Applicants: Egan Hub Storage, LLC.

Description: § 4(d) Rate Filing: Egan 2016 Cleanup Filing to be effective 5/16/2016.

Filed Date: 4/15/16.

Accession Number: 20160415-5042.

Comments Due: 5 p.m. ET 4/27/16.

Docket Numbers: RP16-844-000.

Applicants: WestGas InterState, Inc.

Description: Compliance filing Re-baseline to be effective 4/16/2016.

Filed Date: 4/15/16.

Accession Number: 20160415-5056.

Comments Due: 5 p.m. ET 4/27/16.

Docket Numbers: RP16-845-000.

Applicants: Questar Pipeline Company.

Description: Compliance filing Order 587-W Compliance Filing, Revised Sec. No. 26 to be effective 4/1/2016.

Filed Date: 4/15/16.

Accession Number: 20160415-5072.

Comments Due: 5 p.m. ET 4/27/16.

Docket Numbers: RP16-846-000.

Applicants: Questar Overthrust Pipeline Company.

Description: Compliance filing Order 587-W Compliance Filing, Revised Sec. 27 to be effective 4/1/2016.

Filed Date: 4/15/16.

Accession Number: 20160415-5082.

Comments Due: 5 p.m. ET 4/27/16.

Docket Numbers: RP16-847-000.

Applicants: WestGas InterState, Inc.

Description: Tariff Cancellation: 20160415_WGI Cancellation to be effective 4/15/2016.

Filed Date: 4/15/16.

Accession Number: 20160415-5095.

Comments Due: 5 p.m. ET 4/27/16.

Docket Numbers: RP16-848-000.

Applicants: Questar Southern Trails Pipeline Company.

Description: Compliance filing Order 587-W Compliance Filing, Revised Sec. No. 28 to be effective 4/1/2016.

Filed Date: 4/15/16.

Accession Number: 20160415-5098.

Comments Due: 5 p.m. ET 4/27/16.

Docket Numbers: RP16-849-000.

Applicants: White River Hub, LLC.

Description: Compliance filing Order 587-W Compliance Filing, Revised Sec. No. 26 to be effective 4/1/2016.

Filed Date: 4/15/16.

Accession Number: 20160415-5140.

Comments Due: 5 p.m. ET 4/27/16.

Docket Numbers: RP16-850-000.

Applicants: Trans-Union Interstate Pipeline, L.P.

Description: § 4(d) Rate Filing: Request for Extension of Time to Comply with NAESB Standard to be effective 4/1/2016.

Filed Date: 4/15/16.

Accession Number: 20160415-5165.

Comments Due: 5 p.m. ET 4/27/16.

Docket Numbers: RP16-851-000.

Applicants: Dauphin Island Gathering Partners.

Description: § 4(d) Rate Filing: Negotiated Rate Filing 4-15-16 to be effective 4/15/2016.

Filed Date: 4/15/16.

Accession Number: 20160415-5186.

Comments Due: 5 p.m. ET 4/27/16.

Docket Numbers: RP16-852-000.

Applicants: Rockies Express Pipeline LLC.

Description: Compliance filing Seneca Incremental Facilities Compliance to be effective 6/1/2016.

Filed Date: 4/15/16.

Accession Number: 20160415-5243.

Comments Due: 5 p.m. ET 4/27/16.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

Filings in Existing Proceedings

Docket Numbers: RP16-409-001.

Applicants: Panhandle Eastern Pipe Line Company, LP.

Description: Compliance filing Compliance with RP16-409 NAESB Order to be effective 4/1/2016.

Filed Date: 4/15/16.

Accession Number: 20160415-5031.

Comments Due: 5 p.m. ET 4/27/16.

Docket Numbers: RP16-410-001.

Applicants: Trunkline Gas Company, LLC.

Description: Compliance filing Compliance with RP16-410 NAESB Order to be effective 4/1/2016.

Filed Date: 4/15/16.

Accession Number: 20160415-5032.

Comments Due: 5 p.m. ET 4/27/16.

Docket Numbers: RP16-427-001.

Applicants: Garden Banks Gas Pipeline, LLC.

Description: Compliance filing Garden Banks Compliance Refile NAESB 3.0 to be effective 4/1/2016.

Filed Date: 4/15/16.

Accession Number: 20160415-5136.

Comments Due: 5 p.m. ET 4/27/16.

Docket Numbers: RP16-428-001.

Applicants: Mississippi Canyon Gas Pipeline, L.L.C.

Description: Compliance filing Mississippi Canyon Compliance Refile NAESB 3,0 to be effective 4/1/2016.

Filed Date: 4/15/16.

Accession Number: 20160415-5147.

Comments Due: 5 p.m. ET 4/27/16.

Docket Numbers: RP16-429-001.

Applicants: Nautilus Pipeline Company, L.L.C.

Description: Compliance filing Nautilus Compliance Refile for NAESB 3.0 to be effective 4/1/2016.

Filed Date: 4/15/16.

Accession Number: 20160415-5145.

Comments Due: 5 p.m. ET 4/27/16.

Docket Numbers: RP16-432-001.

Applicants: Cameron Interstate Pipeline, LLC.

Description: Compliance filing Cameron Interstate Pipeline Filing in Compliance with March 29, 2016 FERC Order to be effective 4/1/2016.

Filed Date: 4/14/16.

Accession Number: 20160414-5103.

Comments Due: 5 p.m. ET 4/26/16.

Docket Numbers: RP16-433-001.

Applicants: LA Storage, LLC.

Description: Compliance filing LA Storage Revised Tariff Filing in Compliance with March 29, 2016 FERC Order to be effective 4/1/2016.

Filed Date: 4/14/16.

Accession Number: 20160414-5107.

Comments Due: 5 p.m. ET 4/26/16.

Docket Numbers: RP16-434-001.

Applicants: Mississippi Hub, LLC.

Description: Compliance filing Mississippi Hub Tariff Filing in Compliance with March 29, 2016 FERC Order to be effective 4/1/2016.

Filed Date: 4/14/16.

Accession Number: 20160414-5111.

Comments Due: 5 p.m. ET 4/26/16.

Docket Numbers: RP16-435-001.

Applicants: Southwest Gas Storage Company.

Description: Compliance filing Compliance with RP16-435 NAESB Order to be effective 4/1/2016.

Filed Date: 4/15/16.

Accession Number: 20160415-5033.

Comments Due: 5 p.m. ET 4/27/16.

Docket Numbers: RP16-469-001.

Applicants: Lake Charles LNG Company, LLC.

Description: Compliance filing Compliance with RP16-469 NAESB Order to be effective 4/1/2016.

Filed Date: 4/15/16.

Accession Number: 20160415-5034.

Comments Due: 5 p.m. ET 4/27/16.

Docket Numbers: RP16-495-001.

Applicants: American Midstream (AlaTenn), LLC.

Description: Compliance filing Compliance with Order No. 587-W to be effective 4/1/2016.

Filed Date: 4/15/16.

Accession Number: 20160415-5001.

Comments Due: 5 p.m. ET 4/27/16.

Docket Numbers: RP16-496-001.

Applicants: American Midstream (Midla), LLC.

Description: Compliance filing Compliance with Order No. 587-W to be effective 4/1/2016.

Filed Date: 4/15/16.

Accession Number: 20160415-5002.

Comments Due: 5 p.m. ET 4/27/16.

Docket Numbers: RP16-501-001.

Applicants: High Point Gas Transmission, LLC.

Description: Compliance filing Compliance with Order No. 587-W to be effective 4/1/2016.

Filed Date: 4/14/16.

Accession Number: 20160414-5217.

Comments Due: 5 p.m. ET 4/26/16.

Docket Numbers: RP16-503-001.

Applicants: Kern River Gas Transmission Company.

Description: Compliance filing 2016 NAESB 3.0 Compliance to be effective 4/1/2016.

Filed Date: 4/15/16.

Accession Number: 20160415-5142.

Comments Due: 5 p.m. ET 4/27/16.

Docket Numbers: RP16-516-001.

Applicants: Empire Pipeline, Inc.

Description: Compliance filing Empire NAESB v3 CF (RP16-516) to be effective 4/1/2016.

Filed Date: 4/14/16.

Accession Number: 20160414-5161.

Comments Due: 5 p.m. ET 4/26/16.

Docket Numbers: RP16-519-001.

Applicants: National Fuel Gas Supply Corporation.

Description: Compliance filing NFGSC CF for Order 587-W (RP16-519) to be effective 4/1/2016.

Filed Date: 4/14/16.

Accession Number: 20160414-5061.

Comments Due: 5 p.m. ET 4/26/16.

Docket Numbers: RP16-539-001.

Applicants: Algonquin Gas Transmission, LLC.

Description: Compliance filing AGT RP16-539-000 Compliance Filing to be effective 4/1/2016.

Filed Date: 4/14/16.

Accession Number: 20160414-5002.

Comments Due: 5 p.m. ET 4/26/16.

Docket Numbers: RP16-540-001.

Applicants: Southern LNG Company, L.L.C.

Description: Compliance filing Order No. 587-W Compliance Filing Compliance to be effective 4/1/2016.

Filed Date: 4/15/16.

Accession Number: 20160415-5079.

Comments Due: 5 p.m. ET 4/27/16.

Docket Numbers: RP16-542-001.

Applicants: Elba Express Company, L.L.C.

Description: Compliance filing Order No. 587-W Compliance Filing Compliance to be effective 4/1/2016.

Filed Date: 4/15/16.

Accession Number: 20160415-5080.

Comments Due: 5 p.m. ET 4/27/16.

Docket Numbers: RP16-544-001.

Applicants: Southern Natural Gas Company, L.L.C.

Description: Compliance filing Order No. 587-W Compliance Filing Compliance to be effective 4/1/2016.

Filed Date: 4/15/16.

Accession Number: 20160415-5076.

Comments Due: 5 p.m. ET 4/27/16.

Docket Numbers: RP16-561-001.

Applicants: Midcontinent Express Pipeline LLC.

Description: Compliance filing Compliance Filing 2 Pursuant to Order No. 587-W to be effective 4/1/2016.

Filed Date: 4/15/16.

Accession Number: 20160415-5187.

Comments Due: 5 p.m. ET 4/27/16.

Docket Numbers: RP16-562-001.

Applicants: Gulfstream Natural Gas System, L.L.C.

Description: Compliance filing Gulfstream RP562-000 Compliance Fiiling to be effective 4/1/2016.

Filed Date: 4/14/16.

Accession Number: 20160414-5000.

Comments Due: 5 p.m. ET 4/26/16.

Docket Numbers: RP16-572-001.

Applicants: Sabine Pipe Line LLC.

Description: Compliance filing Sabine Pipeline Order 587-W compliance filing to be effective 4/1/2016.

Filed Date: 4/14/16.

Accession Number: 20160414-5175.

Comments Due: 5 p.m. ET 4/26/16.

Docket Numbers: RP16-573-001.

Applicants: Chandeleur Pipe Line, LLC.

Description: Compliance filing Chandeluer Pipeline Order 587-W compliance 4-14-16 to be effective 4/1/2016.

Filed Date: 4/14/16.

Accession Number: 20160414-5177.

Comments Due: 5 p.m. ET 4/26/16.

Docket Numbers: RP16-574-001.

Applicants: Iroquois Gas Transmission System, L.P.

Description: Compliance filing 04/15/16 FERC Orders 587-W and 809 Compliance Conditions Filing to be effective 4/1/2016.

Filed Date: 4/15/16.

Accession Number: 20160415-5201.

Comments Due: 5 p.m. ET 4/27/16.

Docket Numbers: RP16-576-002.

Applicants: Cimarron River Pipeline, LLC.

Description: Compliance filing NAESB 3.0—Compliance Obligation Filing to be effective 4/1/2016.

Filed Date: 4/15/16.

Accession Number: 20160415-5185.

Comments Due: 5 p.m. ET 4/27/16.

Docket Numbers: RP16-579-002.

Applicants: Dauphin Island Gathering Partners.

Description: Compliance filing NAESB 3.0 Compliance Obligations Filing to be effective 4/1/2016.

Filed Date: 4/15/16.

Accession Number: 20160415-5184.

Comments Due: 5 p.m. ET 4/27/16.

Docket Numbers: RP16-805-001.

Applicants: Gulf South Pipeline Company, LP.

Description: Tariff Amendment: Amendment to Filing (4-14-2016) to be effective 4/1/2016.

Filed Date: 4/14/16.

Accession Number: 20160414-5166.

Comments Due: 5 p.m. ET 4/26/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 18, 2016.
Kimberly D. Bose,
Secretary.

[FR Doc. 2016-09394 Filed 4-21-16; 8:45 am]

BILLING CODE 6717-01-P